DEPARTMENT OF AGRICULTURE

Agricultural Marketing Service

[Docket Number FV-05-301]

United States Standards for Grades of Strawberries

AGENCY: Agricultural Marketing Service, USDA.

ACTION: Notice.

SUMMARY: The Agricultural Marketing Service (AMS) of the Department of Agriculture (USDA) is revising the United States Standards for Grades of Strawberries. AMS received a request from an industry group to modify the standards to allow that percentages be determined by count and not volume. The change will make tolerance determination more objective and more uniform.

DATES: Effective Date: February 23, 2006.

FOR FURTHER INFORMATION CONTACT: Cheri L. Emery, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; E-mail Cheri.Emery@usda.gov. The revised United States Standards for Grades of Strawberries will be available either through the address cited above or by accessing the AMS, Fresh Products Branch Web site at: http://www.ams.usda.gov/standards/stanfrfv.htm.

SUPPLEMENTARY INFORMATION: Section 203(c) of the Agricultural Marketing Act of 1946 (7 U.S.C. 1621-1627), as amended, directs and authorizes the Secretary of Agriculture “To develop and improve standards of quality, condition, quantity, grade and packaging and recommend and demonstrate such standards in order to encourage uniformity and consistency in commercial practices.” AMS is committed to carrying out this authority in a manner that facilitates the marketing of agricultural commodities and makes copies of official standards available upon request. The United States Standards for Grades of Fruits and Vegetables not connected with Federal Marketing Orders or U.S. Import Requirements, no longer appear in the Code of Federal Regulations, but are maintained by USDA/AMS/Fruit and Vegetable Programs.

AMS is revising the voluntary United States Standards for Grades of Strawberries using procedures that appear in Part 36, Title 7 of the Code of Federal Regulations (7 CFR part 36).

Background

Prior to undertaking detailed work to develop a proposed revision to the standard, AMS published a notice on March 11, 2005, in the Federal Register (70 FR 12175) soliciting comments on a possible revision to the United States Standards for Grades of Strawberries. After receiving comments, a second notice was published in the September 7, 2005, Federal Register (70 FR 53148-9) concerning the proposed percentage determination. In response to this notice, AMS received one comment from a state agricultural representative opposing the proposed revision. The comment is available by accessing the AMS, Fresh Products Branch Web site at: http://www.ams.usda.gov/fv/fpbdocketlist.htm.

The comment stated that the size variance is too great to make a count-based inspection an accurate representation of the lot and that maybe the commodity should be inspected by weight. However, AMS believes that allowing percentages to be determined by count and not volume would establish a uniform procedure for determining the percentages, thereby providing more objectivity to an inspection.

Additionally, AMS is eliminating the unclassified category. This section is being removed in all standards, when they are revised. This category is not a grade and only serves to show that no grade has been applied to the lot. It is no longer considered necessary.

The official grade of a lot of strawberries covered by these standards is determined by the procedures set forth in the Regulations Governing Inspection, Certification, and Standards of Fresh Fruits, Vegetables and Other Products (Sec. 51.1 to 51.61).

The United States Standards for Grades of Strawberries will become effective 30 days after the publication of this notice in the Federal Register.

Authority: 7 U.S.C. 1621-1627.

Dated: January 18, 2006.
Lloyd C. Day,
Administrator, Agricultural Marketing Service.

[FR Doc. E6-781 Filed 1-23-06; 8:45 am]

BILLING CODE 3410-02-P